FEDERAL COMMUNICATIONS COMMISSION

47 CFR Part 1

[GEN Docket No. 86-285; FCC 11-27]

Amendment of the Schedule of Application Fees

AGENCY: Federal Communications Commission.

ACTION: Notice of proposed rulemaking.

SUMMARY: In this document, the Commission seeks comments to clarify the rules on the payment of filing fees by winning bidders in auctions of construction permits in the broadcast services in conjunction with their long-form applications.

DATES: Comments are due April 18, 2011, and reply comments are due May 2, 2011.

ADDRESSES: You may submit comments, identified by GEN Docket No. 86-285, by any of the following methods:

• Federal eRulemaking Portal: http://www.regulations.gov. Follow the instructions for submitting comments.

• Federal Communications Commission's Web Site: http://www.fcc.gov/cgb/ecfs. Follow the instructions for submitting comments.

• E-mail: ecfs@fcc.gov. Include GEN Docket No. 86-285 in the subject line of the message.

• Mail: Commercial overnight mail (other than U.S. Postal Service Express Mail, and Priority Mail, must be sent to 9300 East Hampton Drive, Capitol Heights, MD 20743. U.S. Postal Service first-class, Express, and Priority mail should be addressed to 445 12th Street, SW., Washington, DC 20554.

FOR FURTHER INFORMATION CONTACT: Roland Helvajian, Office of Managing Director at (202) 418-0444.

SUPPLEMENTARY INFORMATION: 1. By this Notice of Proposed Rulemaking, adopted on February 28, 2011 and released on March 3, 2011, we seek to clarify the rules on the payment of filing fees by winning bidders in auctions of construction permits in the broadcast services in conjunction with their long-form applications. In the Broadcast Competitive Bidding First Report and Order, the Commission required the filing of application fees in such cases, and section 1.1104, the Schedule of Charges for Media Bureau Service filings, requires the payment of a fee when the long-form application is filed.¹ However, section 1.2107(c) of the rules provides with regard to the filing of long-form applications by winning bidders in auctions that, “Notwithstanding any other provision in Title 47 of the Code of Federal Regulations to the contrary, high bidders need not submit an additional application filing fee with their long-form applications.” ² To resolve any inconsistency and to conform Section 1.2107(c) to the Commission's determination in the Broadcast Competitive Bidding First Report and Order as reflected in section 1.1104, we propose to amend section 1.2107(c) by revising the cited sentence to read as follows: “Except as otherwise provided in section 1.1104 of the rules, high bidders need not submit an additional application fee with their long-form applications.” We seek comment on this proposal.

¹ Implementation of Section 309(j) of the Communications Act—Competitive Bidding Procedures for Commercial Broadcast and Instructional Television Fixed Television Service Licenses, MM Docket No. 97-234, First Report and Order, 13 FCC Rcd 15920, 15984-85 para. 164 (1998) (Broadcast Competitive Bidding First Report and Order).

² 47 CFR 1.2107(c). The Commission adopted section 1.2107(c) before the Balanced Budget Act of 1997 extended the Commission's competitive bidding authority under Section 309(j) of the Communications Act of 1934 to mutually exclusive applications for construction permits or licenses in broadcast services. See Balanced Budget Act of 1997, Public Law 105-33, Title III, 111 Stat. 251 (1997).

Procedural Matters

2. Regulatory Flexibility Act. The rule change proposed in the Notice of Proposed Rulemaking will not have a significant economic impact on a substantial number of small entities or impose significant costs on parties to Commission proceedings.

3. Comment Filing Procedures. Pursuant to Sections 1.415 and 1.419 of the Commission's rules, 47 CFR 1.415 and 1.419, interested parties may file comments in the Notice of Proposed Rulemaking 15 days after publication in the Federal Register, and reply comments 15 days after the comment deadline. Comments may be filed using the Commission's Electronic Comment Filing System (ECFS) or by filing paper copies. See Electronic Filing of Documents in Rulemaking Proceedings, 63 FR 24121 (1998).

• Electronic Filers. Comments may be filed electronically using the Internet by accessing the ECFS: http://www.fcc.gov/cgb/ecfs/. Filers should follow the instructions provided on the Web site for submitting comments.

• ECFS filers must transmit one electronic copy of the comments for Gen. Docket No. 86-285. In completing the transmittal screen, filers should include their full name, U.S. Postal Service mailing address, and the applicable docket number. Parties may also submit an electronic comment by Internet e-mail.

• Paper Filers: Parties who choose to file by paper must file an original and four copies of each filing. Filings can be sent by hand or messenger delivery, by commercial overnight courier, or by first-class or overnight U.S. Postal Service mail (although we continue to experience delays in receiving U.S. Postal Service mail due to security measures). All filings must be addressed to the Commission's Secretary, Office of the Secretary, Federal Communications Commission.

• All hand-delivered and/or messenger-delivered paper filings for the Commission's Secretary must be delivered to FCC Headquarters at 445 Twelfth St., SW., Room TW-A325, Washington, DC 20554. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 Twelfth Street, SW., Washington, DC 20554.

4. Parties shall also serve one copy with the Commission's copy contractor, Best Copy and Printing, Inc. (BPCI), Portals II, 445 Twelfth Street, SW., Room CY-B402, Washington, DC 20554, (202) 488-5300, or via e-mail to fcc@bcpiweb.com. Documents in GEN Docket No. 86-285 will be available for public inspection and copying during business hours at the FCC Reference Information Center, Portals II, 445 Twelfth Street, SW., Room CY-A257, Washington, DC 20554. The documents may also be purchased from BCPI, telephone (202) 488-5300, facsimile (202) 488-5563, TTY (202) 488-5562, e-mail fcc@bcpiweb.com.

5. Ex Parte Presentations. The Notice of Proposed Rulemaking shall be treated as a “permit-but-disclose” proceeding in accordance with the Commission's ex parte rules, 47 CFR 1.1200 et seq. Requirements pertaining to oral and written presentations are set forth in Section 1.1206(b) of the Commission's rules.

6. Accessible Formats. To request materials in accessible formats for people with disabilities (Braille, large print, electronic files, audio format), send an e-mail to fcc504@fcc.gov or call the Consumer & Governmental Affairs Bureau at (202) 418-0432 (tty).

Ordering Clauses

7. Accordingly, it is ordered, that, pursuant to sections 1, 4(i), 4(j), and 8 of the Communications Act of 1934, as amended, 47 U.S.C. sections 151, 154(i), 154(j), and 158, this Notice of Proposed Rulemaking is hereby adopted.

8. It is further ordered that the Commission's Consumer and Governmental Affairs Bureau, Reference Information Center, shall send a copy of this Notice of Proposed Rulemaking, including the Initial Regulatory Flexibility Analysis, to the Chief Counsel for Advocacy of the U.S. Small Business Administration.

List of Subjects in 47 CFR Part 1

Administrative practice and procedure.

Federal Communications Commission.
Marlene H. Dortch,
Secretary.

For the reasons discussed in the preamble, the Federal Communications Commission proposes to amend 47 CFR part 1 as follows:

PART 1—PRACTICE AND PROCEDURE

1. The authority citation for Part 1 continues to read as follows:

Authority: 15 U.S.C. 79 et seq.; 47 U.S.C. 151, 154(i), 154(j), 155, 157, 225, 303(r), and 309, unless otherwise noted.

2. Amend § 1.2107 by revising paragraph (c) to read as follows:

§ 1.2107. Submission of down payment and filing of long-form applications.

* * * * *

(c) A high bidder that meets its down payment obligations in a timely manner must, within ten (10) business days after being notified that it is a high bidder, submit an additional application (the “long-form application”) pursuant to the rules governing the service in which the applicant is the high bidder. Except as otherwise provided in § 1.1104, high bidders need not submit an additional application filing fee with their long-form applications.

* * * * *

[FR Doc. 2011-7475 Filed 3-31-11; 8:45 am]

BILLING CODE 6712-01-P